DEPARTMENT OF TRANSPORTATION

[Docket No. DOT-MARAD 2014-0096]

Agency Requests for Renewal of a Previously Approved Information Collection(s): Determination of Fair and Reasonable Rates for the Carriage of Bulk and Package Preference Cargoes on U.S.-Flag Commercial Vessels

AGENCY: MARAD, DOT.

ACTION: Notice and request for comments.

SUMMARY: The Department of Transportation (DOT) invites public comments about our intention to request the Office of Management and Budget (OMB) approval to renew an information collection. We are required to publish this notice in the Federal Register by the Paperwork Reduction Act of 1995, Public Law 104-13.

DATES: Written comments should be submitted by September 5, 2014.

ADDRESSES: You may submit comments [identified by Docket No. DOT-OST-2014-0096] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Albert Bratton, Telephone Number: (202) 366-5769, Office of Business Finance, Maritime Administration, U.S. Department of Transportation, 1200 New Jersey Avenue SE., Washington, DC 20590.

SUPPLEMENTARY INFORMATION: OMB Control Number: 2133-0514.

Title: Determination of Fair and Reasonable Rates for the Carriage of Bulk and Package Preference Cargoes on U.S.-Flag Commercial Vessels.

Form Numbers: MA-1025, MA-1026, and MA-172.

Type of Review: Renewal of an information collection.

Background: This collection of information requires U.S.-flag operators to submit annual vessel operating costs and capital costs data to Maritime Administration officials. The information is used by the Maritime Administration in determining fair and reasonable guideline rates for the carriage of preference cargoes on U.S.-flag vessels. In addition, U.S.-flag vessel operators are required to submit Post Voyage Reports to the Maritime Administration after completion of a cargo preference voyage.

Respondents: U.S. citizens who own and operate U.S.-flag vessels.

Number of Respondents: 51.

Frequency: Annually.

Number of Responses: 102.

Total Annual Burden: 306.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Dated: June 30, 2014.
Christine Gurland,
Acting Secretary, Maritime Administration.

[FR Doc. 2014-15753 Filed 7-3-14; 8:45 am]

BILLING CODE 4910-81-P